DEPARTMENT OF COMMERCE

International Trade Administration

[A-533-809]

Certain Forged Stainless Steel Flanges from India: Notice of Final Results and Partial Rescission of Antidumping Duty Administrative Review

AGENCY: Import Administration, International Trade Administration, Department of Commerce.

SUMMARY: On March 7, 2007, the Department of Commerce (the Department) published the preliminary results of the administrative review of the antidumping duty order on certain forged stainless steel flanges from India. This administrative review covers imports from Echjay Forgings Pvt., Ltd. (Echjay) and Rollwell Forge, Ltd. (Rollwell), manufacturers/exporters of the subject merchandise; we are rescinding this review with respect to Shree Ganesh Forgings, Ltd. (Shree Ganesh). The period of review is February 1, 2005, through January 31, 2006. As a result of our analysis of Echjay's comments we have made no changes to our calculations. With respect to Rollwell, we have calculated a margin rather than use adverse facts available as in the preliminary results. We disclosed the post-preliminary calculated margin to Rollwell on June 6, 2007. In these final results we have made one change to our June 6, 2007 analysis for Rollwell. The final results for both Echjay and Rollwell are listed below in the Final Results of Review section.

EFFECTIVE DATE: August 13, 2007.

FOR FURTHER INFORMATION CONTACT: Fred Baker or Robert James, AD/CVD Operations, Office 7, Import Administration, International Trade Administration, U.S. Department of Commerce, 14th Street & Constitution Avenue, NW., Washington, DC 20230; telephone: (202) 482-2924 or (202) 482-0649, respectively.

SUPPLEMENTARY INFORMATION:

Background

On March 7, 2007, the Department published the preliminary results of review of the antidumping duty order on certain forged stainless steel flanges (stainless steel flanges) from India. See Certain Forged Stainless Steel Flanges From India; Preliminary Results of Antidumping Duty Administrative Review 72 FR 10142 (March 7, 2007) (Preliminary Results). In those preliminary results we announced our calculated margins for Echjay and Rollwell and our intent to rescind the review with respect to Shree Ganesh because we determined that Shree Ganesh had no shipments during the period of review (POR). We also announced that we were basing our preliminary results with respect to Rollwell on adverse facts available (AFA). However, as discussed below, we stated we would afford Rollwell another opportunity to submit information necessary to calculate a margin.

We invited interested parties to comment on our preliminary results. We received comments from Echjay on March 8, 2007, and from Rollwell on June 28, 2007, and July 9, 2007. We received no comments from Shree Ganesh.

On July 6, 2007, the Department extended the due date for the final results to August 6, 2007. See Notice of Extension of Time Limit for the Final Results of Antidumping Duty Administrative Review: Certain Forged Stainless Steel Flanges from India, 72 FR 36959 (July 6, 2007).

Rollwell

As discussed above, in the preliminary results of review the Department assigned Rollwell a margin based on the facts available, but also announced its intent to issue to Rollwell a supplemental questionnaire after publication of the preliminary results. We issued this supplemental questionnaire on March 9, 2007. Rollwell submitted its response on March 22, 2007. Based on our analysis of this response, we calculated a margin for Rollwell. On June 6, 2007, the Department disclosed this calculated margin to Rollwell, and invited interested parties to comment. Rollwell submitted comments on June 28, 2007. On July 2, 2007, the Department issued a letter to Rollwell in which it corrected a misstatement it had made in its June 6, 2007, analysis memorandum regarding its rationale for denying a scrap offset to Rollwell's reported material costs. We invited Rollwell to comment on our correct rationale. We received Rollwell's comments on July 9, 2007.

In these final results we have made one change to our June 6, 2007, margin calculation based on our own analysis of Rollwell's data. Specifically, we recalculated Rollwell's material costs to exclude post period of review (POR) purchases of stainless steel billets. See our “Analysis of Data Submitted by Rollwell Forge Ltd. (Rollwell) for the Final Results of the 2005-2006 Administrative Review of the Antidumping Duty Order on Stainless Steel Flanges from India)” at Section II. We have not made any changes to Rollwell's calculation based on its June 28, 2007, and July 9, 2007, comments.

Scope of the Order

The products covered by this order are certain forged stainless steel flanges, both finished and not finished, generally manufactured to specification ASTM A-182, and made in alloys such as 304, 304L, 316, and 316L. The scope includes five general types of flanges. They are weld-neck, used for butt-weld line connection; threaded, used for threaded line connections; slip-on and lap joint, used with stub-ends/butt-weld line connections; socket weld, used to fit pipe into a machined recession; and blind, used to seal off a line. The sizes of the flanges within the scope range generally from one to six inches; however, all sizes of the above-described merchandise are included in the scope. Specifically excluded from the scope of this order are cast stainless steel flanges. Cast stainless steel flanges generally are manufactured to specification ASTM A-351. The flanges subject to this order are currently classifiable under subheadings 7307.21.1000 and 7307.21.5000 of the Harmonized Tariff Schedule of the United States (HTSUS). Although the HTSUS subheading is provided for convenience and customs purposes, the written description of the merchandise under review is dispositive of whether or not the merchandise is covered by the scope of the order.

Changes Since the Preliminary Results

Based on our analysis of the comments received, we have made no changes to the preliminary results with respect to Echjay. With respect to Shree Ganesh, we are rescinding the review. See below under “Partial Rescission.” With respect to Rollwell, we have based the final results on the analysis we released for comments on June 6, 2007, and our July 2, 2007, correction to that analysis, rather than on the AFA margin of the March 8, 2007, preliminary results. In addition, we have made one change to Rollwell's cost computation. For details, see “Memorandum to the File Regarding Analysis of Data Submitted by Rollwell Forge Ltd. (Rollwell) for the Final Results of the 2005-2006 Administrative Review,” dated August 6, 2007.

Partial Rescission

In our preliminary results, we announced our preliminary decision to rescind the review with respect to Shree Ganesh because we determined this company had no entries of stainless steel flanges from Indian during the POR. See Preliminary Results. Since issuing the preliminary results, we have received no new information contradicting this determination. Therefore, we are rescinding the administrative review with respect to Shree Ganesh.

Analysis of Comments Received

All issues raised in our preliminary results are addressed in the “Issues and Decision Memorandum” from Stephen J. Claeys, Deputy Assistant Secretary Import Administration, to David M. Spooner, Assistant Secretary for Import Administration, dated August 6, 2007 (Decision Memorandum), which is hereby adopted by this notice. A list of the issues which parties have raised and to which we have responded, all of which are in the Decision Memorandum, is attached to this notice as an appendix. Parties can find a complete discussion of all issues raised in this review and the corresponding recommendations in this public memorandum which is on file in the Central Records Unit, room B-099 of the main Department of Commerce building. In addition, a complete version of the decision memorandum can be accessed directly on the Web at http://ia.ita.doc.gov/frn. The paper copy and electronic version of the decision memorandum are identical in content.

Final Results of Review

As a result of our review, we determine the weighted-average dumping margins for the period February 1, 2005, through January 31, 2006, to be as follows:

Manufacturer / Exporter | Margin (percent)
EchjayForgings Pvt., Ltd. | 0.00
Rollwell Forge, Ltd. | 48.68

Assessment Rates

The Department will determine, and U.S. Customs and Border Protection (CBP) shall assess, antidumping duties on all appropriate entries, pursuant to section 751(a)(1)(B) of the Tariff Act of 1930 (the Tariff Act), and 19 CFR 351.212(b). The Department calculated importer-specific duty assessment rates on the basis of the ratio of the total amount of antidumping duties calculated for the examined sales to the total entered value of the examined sales observations for that importer. We intend to issue assessment instructions to CBP 15 days after the date of publication of these final results of review.

The Department clarified its “automatic assessment” regulation on May 6, 2003. This clarification will apply to entries of subject merchandise during the POR produced by companies included in these final results of review for which the reviewed companies did not know the merchandise was destined for the United States. In such instances, we will instruct CBP to liquidate unreviewed entries at the all-others rate if there is no rate for an intermediate company(ies) involved in the transaction. For a discussion of this clarification, see Notice of Policy Concerning Assessment of Antidumping Duties, 68 FR 23954 (May 6, 2003).

Cash Deposit Requirements

The following deposit requirements will be effective upon publication of this notice of final results of administrative review for all shipments of subject merchandise entered, or withdrawn from warehouse, for consumption on or after the publication, as provided by section 751(a)(1) of the Tariff Act: (1) The cash deposit rates for the reviewed companies will be the rates indicated above; (2) for previously investigated companies not listed above, the cash deposit rate will continue to be the company-specific rate published for the most recent period; (3) if the exporter is not a firm covered in this review, or in the less-than-fair-value (LTFV) investigation, but the manufacturer is, then the cash deposit rate will be the rate established for the most recent period for the manufacturer of the merchandise; and (4) the cash deposit rate for all other manufacturer or exporters will continue to be 162.14 percent, the “all others” rate established in the LTFV investigation. See Amended Final Determination and Antidumping Duty Order; Certain Forged Stainless Steel Flanges from India, 59 FR 5994 (February 9, 1994). These cash deposit requirements shall remain in effect until publication of the final results of the next administrative review.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of antidumping duties occurred, and in the subsequent assessment of double antidumping duties.

This notice also is the only reminder to parties subject to administrative protective order (APO) of their responsibility concerning the return or destruction of proprietary information disclosed under APO in accordance with 19 CFR 351.305. Timely written notification of the return/destruction of APO materials or conversion to judicial protective order is hereby requested. Failure to comply with the regulations and the terms of an APO is a sanctionable violation.

We are issuing and publishing these results and notice in accordance with sections 751(a)(1) and 777(i)(1) of the Tariff Act.

Dated: August 6, 2007.
David M. Spooner,
Assistant Secretary for Import Administration.

APPENDIX - ISSUES RAISED IN DECISION MEMORANDUM

Comment 1: Cost of Raw Materials

Comment 2: Scrap Offset

Comment 3: Revocation

[FR Doc. E7-15810 Filed 8-10-07; 8:45 am]

BILLING CODE 3510-DS-S